DEPARTMENT OF THE INTERIOR

Bureau of Land Management

[LLWYR05000.L51100000.GN0000.LVEMK10CW370-WYW-140590]

Notice of Availability of the Draft Environmental Impact Statement for the Gas Hills In Situ Recovery Uranium Project, Fremont and Natrona Counties, WY

AGENCY: Bureau of Land Management, Interior.

ACTION: Notice.

SUMMARY: In accordance with the National Environmental Policy Act of 1969, as amended (NEPA), the Bureau of Land Management (BLM) has prepared a Draft Environmental Impact Statement (EIS) for the Gas Hills In Situ Recovery (ISR) Uranium Project and by this notice is announcing the opening of the comment period.

DATES: To ensure that comments will be considered, the BLM must receive written comments on the Gas Hills ISR Uranium Project draft EIS within 45 days following the date the Environmental Protection Agency publishes its Notice of Availability in the Federal Register. The BLM will announce future meetings and any other public involvement activities at least 15 days in advance through public notices, media releases, and/or mailings.

ADDRESSES: Comments on the Gas Hills ISR Uranium Project may be submitted by any of the following methods:

• Web site: www.blm.gov/wy/st/en/info/NEPA/documents/lfo/gashills.html.

• Email: Gas_Hills_Uranium_EIS_WY@blm.gov.

• Fax: 307-332-8444.

• Mail or hand delivery: Bureau of Land Management, Attn: Kristin Yannone, Lander Field Office, 1335 Main Street, Lander, WY 82520.

Documents pertinent to this proposal may be examined at the following BLM offices:

• Lander Field Office, 1335 Main Street, Lander, Wyoming 82520;

• High Plains District Office, 2987 Prospector Drive, Casper, Wyoming 82604;

• Wind River/Bighorn Basin District Office, 101 South 23rd, Worland, Wyoming 82401; and

• Wyoming State Office, 5353 Yellowstone Road, Cheyenne, Wyoming 82009; Interested persons may also view the documents online at: http://www.blm.gov/wy/st/en/info/NEPA/documents/lfo/gashills.html.

FOR FURTHER INFORMATION CONTACT: Kristin Yannone, Project Manager, telephone: 307-332-8400; address: mail: 1335 Main Street, Lander, WY 82520; email: Gas_Hills_Uranium_EIS_WY@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, Power Resources, Inc. (PRI), a wholly owned subsidiary of Cameco US Holdings, Inc., doing business as Cameco Resources, has filed a plan of operations pursuant to 43 CFR subpart 3809 regulations to construct uranium recovery facilities including: Waste water disposal facilities; access roads; pipelines and utility lines; delineation, injection and production wells; and improvement of one existing and construction of one new equipment-housing satellite facility used in the ISR process. The project would be located in eastern Fremont and western Natrona counties, approximately 45 road miles east of Riverton, Wyoming, and approximately 65 road miles west of Casper, Wyoming.

The boundary of the Gas Hills Project Area (GHPA) encompasses approximately 8,500 acres, of which approximately 1,300 acres would incur surface disturbance from the proposed project. Approximately 15 percent of the surface within the GHPA has been disturbed by past mining and exploration activities. This disturbance includes an existing warehouse structure (the Carol Shop) and access road (the AML Road).

If the proposed mining operation is not approved, existing reclamation responsibilities under the No-Action Alternative would require Cameco to remove and reclaim the existing disturbance once ongoing exploratory activities are concluded. This reclamation would include a minimum of 26.7 acres for the removal of the Carol Shop. If no other use for the existing 1.8 miles of road were identified, it would need to be removed and reclaimed, an additional 10.9 acres. Additional notice-level activities resulting from exploration would need to be reclaimed as well for a total of 40.2 acres. The use of the road and Carol Shop have been allowed during active exploration in the area and currently maintained mill-site claims.

The Plan of Operations identifies five production areas, or mine units, with subsurface ore bodies within the Wind River Formation for ISR extraction. Construction, operation, groundwater restoration, and surface reclamation of five mine units would occur during an estimated period of approximately 25 years. At the end of the project, all surface structures would be removed, and all disturbances would be re-contoured and reclaimed. In accordance with Nuclear Regulatory Commission (NRC) regulations, any radiological contaminated wastes, including any processing pipe and equipment as well as solid residue or liners from evaporation ponds, would be removed from the Project Area and disposed of in accordance with regulations.

The Draft EIS addresses the direct, indirect, and cumulative impacts of the Proposed Action and two alternatives including the No Action Alternative and the Resource Protection Alternative.

The Proposed Action Alternative is the project proposed by Cameco as identified by the Plan of Operations, the NRC license application, and the Wyoming Department of Environmental Quality Land Quality Division's Mine Permit Application #687.

Under the Resource Protection Alternative, the project would utilize the same ISR process occurring over the same time period as the Proposed Action, but modifications to the project would reduce surface disturbance and heavy truck transportation. Modifications would include on-site resin processing to produce slurry, submittal of an annual development plan, construction timing constraints, a disturbance offset for an additional satellite facility, reduced number of evaporation ponds, enhanced reclamation, and power line burial.

The Notice of Intent to prepare an EIS was published in the Federal Register on September 7, 2010 (75 FR 54384). Key issues identified during scoping included: Alternative reclamation and restoration criteria and timing; alternative transportation routes; alternative wastewater treatment, storage, and disposal; potential groundwater restoration issues; enforcement of reclamation or restoration; impacts to area recreation, grazing, and hunting; impacts to surface waters from runoff; the potential to impact sage-grouse, migratory birds, mule deer, and antelope; adequate opportunity for comment by the public; and adequate analysis of cumulative impacts.

The public is encouraged to comment on any of the draft alternatives. The BLM asks that those submitting comments make them as specific as possible with reference to chapters, page numbers, and paragraphs in the draft EIS document. Comments that contain only opinions or preferences will not receive a formal response; however, they will be considered and included as part of the BLM decision-making process. The most useful comments will include new technical or scientific information, identification of data gaps in the impact analysis, or technical or scientific rationale for opinions or preference.

Before including your address, phone number, email address or other personal identifying information in your comment, you should be aware that your entire comment—including your personal identifying information—may be made publicly available at any time. While you may ask us in your comment to withhold your personal identifying information from public review, we cannot guarantee that we will be able to do so.

(Authority: 40 CFR 1506.6, 40 CFR 1506.10)

Donald A. Simpson,
State Director, Wyoming.

[FR Doc. 2012-27771 Filed 11-15-12; 8:45 am]

BILLING CODE 4310-22-P